DEPARTMENT OF TRANSPORTATION

Federal Aviation Administration

Advisory Circular; Bird Ingestion Certification Standards

AGENCY: Federal Aviation Administration, DOT.

ACTION: Notice of availability of Advisory Circular on Bird Ingestion Certification Standards.

SUMMARY: This notice announces the availability of Advisory Circular (AC) No. 33.76-1, Bird Ingestion Certification Standards.

DATES: Advisory Circular No. 33.76-1 was issued by the New England Aircraft Certification Service, Engine and Propeller Directorate on January 19, 2001.

FOR FURTHER INFORMATION CONTACT: Marc Bouthillier, Engine and Propeller Standards Staff, ANE-110, 12 New England Executive Park, Burlington, MA, 01803; telephone: (781) 238-7120; fax: (781) 238-7199; e-mail: marc.bouthillier@faa.gov. The subject AC is available on the Internet at the following address: http://www.faa.gov/avr/air/acs/achome.htm.

SUPPLEMENTARY INFORMATION: This advisory circular (AC) provides guidance and acceptable methods, but not the only methods, that may be used to demonstrate compliance with the new bird ingestion requirements § 33.76 of the Federal Aviation Regulations, Title 14 of the Code of Federal Regulations. These new standards were published in the Federal Register on September 14, 2000 (65 FR 66848) and became effective on December 13, 2000. Although this AC refers to regulatory requirements that are mandatory, this AC is not, in itself, mandatory. This AC neither changes any regulatory requirements nor authorizes changes in or deviations from the regulatory requirements.

Background

This effort was adopted as a part 33 and Joint Aviation Regulations for engines (JAR-E) harmonization project and was selected as an Aviation Rulemaking Advisory Committee (ARAC) project. This AC provides information and guidance that address Federal Aviation Administration (FAA) type certification standards for aircraft turbine engines with regard to bird ingestion. The requirements of § 33.76 reflect recent analysis of the bird threat encountered in service by turbine engine powered aircraft.

This advisory circular, published under the authority granted to the Administrator by 49 U.S.C. 106(g), 40113, 44701-44702, 44704, provides guidance for these requirements.

Issued in Burlington, Massachusetts, on January 19, 2001.
Jay J. Pardee,
Manager, Engine and Propeller Directorate, Aircraft Certification Service.

[FR Doc. 01-2647 Filed 1-30-01; 8:45 am]

BILLING CODE 4910-13-M